NUCLEAR REGULATORY COMMISSION

Sunshine Act Meeting

AGENCY HOLDING THE MEETING: Nuclear Regulatory Commission.

DATE: Weeks of January 29, February 5, 12, 19, 26, March 5, 2001.

PLACE: Commissioners' Conference Room, 11555 Rockville Pike, Rockville, Maryland.

STATUS: Public and Closed.

MATTERS TO BE CONSIDERED:

Week of January 29, 2001

Tuesday, January 30, 2001

9:30 a.m.—Briefing on Status of Nuclear Waste Safety (Public Meeting) (Contact: Claudia Seelig, 301-415-7243)

This meeting will be webcast live at the Web address— www.nrc.gov/live.html

Wednesday, January 31, 2001

9:25 a.m.—Affirmation Session (Public Meeting) (Tentative)

a: Fansteel, Inc. (Muskogee, Oklahoma Site); Parties' Joint Motion to Dismiss Fansteel, Inc.'s Appeal of the Presiding Officer's Decision to Grant a Hearing

b: HYDRO RESOURCES, INC. Commission Review of LBP-99-40 (Presiding Officer decision holding proceeding in abeyance); Commission Review of last half of LBP-99-30 (Presiding Officer decision on NEPA/Environmental Justice)

9:30 a.m.—Briefing on Status of OCIO Programs, Performance, and Plans (Public Meeting) (Contact: Donnie Grimsley, 301-415-8702)

This meeting will be webcast live at the Web address— www.nrc.gov/live.html

Thursday, February 1, 2001

9:30 a.m.—Briefing on Status of OCFO Programs, Performance and Plans (Public Meeting) (Contact: Lars Solander, 301-415-6080)

This meeting will be webcast live at the Web address— www.nrc.gov/live.html

Week of February 5, 2001—Tentative

Monday, February 5, 2001

1:55 p.m.—Affirmation Session (Public Meeting) (If needed)

Week of February 12, 2001—Tentative

Wednesday, February 14, 2001

10:25 a.m.—Affirmation Session (Public Meeting) (If needed)

Week of February 19, 2001—Tentative

Tuesday, February 20, 2001

10:25 a.m.—Affirmation Session (Public Meeting) (If needed)

10:30 a.m.—Briefing on Spent Fuel Pool Accident Risk at Decommissioning Plants and Rulemaking Initiatives (Public Meeting) (Contact: George Hubbard, 301-415-2870)

This meeting will be webcast live at the Web address— www.nrc.gov/live.html

Week of February 26, 2001—Tentative

Monday, February 26, 2001

2:00 p.m.—Meeting with the National Association of Regulatory Utility Commissioners (NARUC) (Public Meeting) (Contact: Spiros Droggitis, 301-415-2367)

This meeting will be webcast live at the Web address— www.nrc.gov/live.html

Tuesday, February 27, 2001

10:25 a.m.—Affirmation Session (Public Meeting) (If needed)

10:30 a.m.—Briefing on Threat Environment Assessment (Closed-Ex. 1)

Week of March 5, 2001—Tentative

There are no meetings scheduled for the Week of March 5, 2001.

*The schedule for Commission meetings is subject to change on short notice. To verify the status of meetings call (recording)—(301) 415-1292. Contact person for more information: David Louis Gamberoni (301) 415-1651.

The NRC Commission Meeting Schedule can be found on the Internet at: http://www.nrc.gov/SECY/smj/schedule.htm

This notice is distributed by mail to several hundred subscribers; if you no longer wish to receive it, or would like to be added to it, please contact the Office of the Secretary, Washington, D.C. 20555 (301-415-1969). In addition, distribution of this meeting notice over the Internet system is available. If you are interested in receiving this Commission meeting schedule electronically, please send an electronic message to dkw@nrc.gov.

Dated: January 25, 2001.
David Louis Gamberoni,
Technical Coordinator, Office of the Secretary.

[FR Doc. 01-2630 Filed 1-26-01; 10:16 am]

BILLING CODE 7590-01-M